ENVIRONMENTAL PROTECTION AGENCY

40 CFR Part 52

[CT064-7222B; A-1-FRL-6942-5]

Approval and Promulgation of Air Quality Implementation Plans; Connecticut—Approval of Several NOX Emission Trading Orders as Single Source SIP Revisions

AGENCY: Environmental Protection Agency (EPA).

ACTION: Proposed rule.

SUMMARY: The EPA is proposing to approve a State Implementation Plan (SIP) revision submitted by the State of Connecticut. This revision establishes a mechanism to create and use emission trading credits for nitrogen oxides ­(NOX) at electric generating stations currently owned by Wisvest in Bridgeport and New Haven, Connecticut. This revision also approves retrospectively credits created at these facilities between April 16, 2000 and April 30, 2000. The revision also approves annual emission credits at Wisvest's power plant Bridgeport Harbor Station (unit no. 2). These permanent credits can be used by facilities to offset any NOX emission increases due to new construction or plant modifications subject to EPA's nonattainment major new source review program. Finally, this revision changes the expiration date from December 1999 to December 2000 of previously issued Orders to four municipal waste incinerators. In the Final Rules Section of this Federal Register, EPA is approving the State's SIP submittal as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

DATES: Written comments must be received on or before April 23, 2001.

ADDRESSES: Comments may be mailed to Donald Dahl, Air Permits Program, Office of Ecosystem Protection (mail code CAP), U.S. Environmental Protection Agency, EPA-New England, One Congress Street, Suite 1100, Boston, MA 02114-2023. Copies of the State submittal and EPA's technical support document are available for public inspection during normal business hours, by appointment at the Office of Ecosystem Protection, U.S. Environmental Protection Agency, EPA-New England, One Congress Street, 11th floor, Boston, MA and the Bureau of Air Management, Department of Environmental Protection, State Office Building, 79 Elm Street, Hartford, CT 06106-1630.

FOR FURTHER INFORMATION CONTACT: Donald Dahl, (617) 918-1657.

SUPPLEMENTARY INFORMATION: For additional information, see the direct final rule which is located in the Rules Section of this Federal Register.

Dated: January 8, 2001.
Mindy S. Lubber,
Regional Administrator, EPA-New England.

[FR Doc. 01-6567 Filed 3-22-01; 8:45 am]

BILLING CODE 6560-50-P